DEPARTMENT OF COMMERCE

International Trade Administration

[A-428-827, A-475-828, A-557-809, A-565-801]

Notice of Postponement of Preliminary Antidumping Duty Determinations: Stainless Steel Butt-Weld Pipe Fittings From Germany, Italy, Malaysia and the Philippines

AGENCY: Import Administration, International Trade Administration, Department of Commerce.

EFFECTIVE DATE: April 13, 2000.

FOR FURTHER INFORMATION CONTACT: For Germany: Carrie Blozy or Rick Johnson at (202) 482-0165 and (202) 482-3818, respectively; for Italy, Helen Kramer or Linda Ludwig at (202) 482-0405 and (202) 482-3833, respectively; for Malaysia, Becky Hagen or Rick Johnson at (202) 482-3362 and (202) 482-3818, respectively; for the Philippines, Fred Baker or Robert James at (202) 482-2924 and (202) 482-0649, respectively, Import Administration, International Trade Administration, U.S. Department of Commerce, 14th Street and Constitution Avenue, NW, Washington, DC 20230.

Postponement of Preliminary Determinations

The Department of Commerce (the Department) is postponing the preliminary determinations in the antidumping duty investigations of stainless steel butt-weld pipe fittings from Germany, Italy, Malaysia and the Philippines. The deadline for issuing the preliminary determinations in these investigations is now July 26, 2000.

On January 18, 2000, the Department initiated antidumping investigations of stainless steel butt-weld pipe fittings from Germany, Italy, Malaysia and the Philippines. See Initiation of Antidumping Duty Investigation: Stainless Steel Butt-Weld Pipe Fittings from Germany, Italy, Malaysia and the Philippines, 65 FR 4595, (January 31, 2000). The notice stated that the Department would issue its preliminary determinations no later than140 days after the date of initiation (i.e., June 6, 2000).

The Department has now concluded, consistent with section 733(c)(1)(B) of the Act, that these cases are extraordinarily complicated, and that additional time is necessary to issue the preliminary determinations due to the complexity of certain issues raised in these cases, including the complexity of the transactions to be investigated and adjustments to be considered and the novelty of the issues presented. See Memorandum from Richard Weible and Edward Yang to Joseph A. Spetrini dated April 7, 2000. Therefore, in light of the fact that parties to this proceeding have been cooperating, pursuant to section 733(c)(1) of the Act, the Department is postponing the deadline for issuing these determinations 50 days (i.e., until July 26, 2000).

This extension is in accordance with section 733(c) of the Act and 19 CFR 351.205(b)(2).

Dated: April 7, 2000.
Joseph A. Spetrini,
Acting Assistant Secretary for Import Administration.

[FR Doc. 00-9238 Filed 4-12-00; 8:45 am]

BILLING CODE 3510-DS-P